FEDERAL COMMUNICATIONS COMMISSION

[FR ID: 198702]

Privacy Act of 1974; System of Records

AGENCY: Federal Communications Commission.

ACTION: Notice of a modified system of records.

SUMMARY: The Federal Communications Commission (FCC, Commission, or Agency) has modified an existing system of records, FCC/OWD-1, Reasonable Accommodation Requests, subject to the Privacy Act of 1974, as amended. This action is necessary to meet the requirements of the Privacy Act to publish in the Federal Register notice of the existence and character of records maintained by the agency. The FCC's Office of Workforce Diversity (OWD) uses this system to provide a method by which the FCC can identify Commission employees who have requested accommodations related to: religion; disability; or pregnancy, childbirth, or related medical conditions. Information on the disposition of each request is also maintained in this system.

DATES: This modified system of records will become effective on January 26, 2024. Written comments on the routine uses are due by February 26, 2024. The routine uses in this action will become effective on February 26, 2024 unless comments are received that require a contrary determination.

ADDRESSES: Send comments to Brendan McTaggart, Attorney-Advisor, Office of General Counsel, Federal Communications Commission, 45 L Street NE, Washington, DC 20554, or to privacy@fcc.gov.

FOR FURTHER INFORMATION CONTACT: Brendan McTaggart, (202) 418-1738, or privacy@fcc.gov.

SUPPLEMENTARY INFORMATION: This notice serves to update and modify FCC/OWD-1 as a result of the various necessary changes and updates. The substantive changes and modifications to the previously published version of the FCC/OWD-1 system of records include:

1. Updating the name of the system of records from FCC/OWD-1, Reasonable Accommodation Requests, to FCC/OWD-1, FCC Accommodation Requests, to reflect the expansion of the system to include religious and pregnancy/childbirth accommodations in addition to reasonable accommodations related to disability.

2. Modifying the Authority for Maintenance of the System, Categories of Individuals, Categories of Records, and Record Source Categories sections to reflect expansion of the system of records.

3. Updating and/or revising language in six routine uses (listed by current routine use number): (1) Litigation and (2) Adjudication (now two separate routine uses); (3) Law Enforcement and Investigation; (4) Congressional Inquiries; (5) Government-wide Program Management and Oversight; and (7) Nonfederal Personnel.

The system of records is also updated to reflect various administrative changes related to the system managers and system addresses; policy and practices for storage, retention, disposal and retrieval of the information; administrative, technical, and physical safeguards; and updated notification, records access, and contesting records procedures.

SYSTEM NAME AND NUMBER:

FCC/OWD-1, FCC Accommodation Requests.

SECURITY CLASSIFICATION:

Unclassified.

SYSTEM LOCATION:

Office of Workplace Diversity (OWD), Federal Communications Commission (FCC), 45 L Street NE, Washington, DC 20554.

SYSTEM MANAGERS:

Office of Workplace Diversity (OWD), Federal Communications Commission (FCC), 45 L Street NE, Washington, DC 20554; and/or Security Operations Center, Federal Communications Commission (FCC), 45 L Street NE, Washington, DC 20554.

AUTHORITY FOR MAINTENANCE OF THE SYSTEM:

Executive Order (E.O.) 13164, Establishing Procedures to Facilitate the Provision of Reasonable Accommodation; EEOC, Enforcement Guidance on Reasonable Accommodation and Undue Hardship Under the Americans with Disabilities Act, 29 CFR part 1615; Rehabilitation Act of 1973, 29 U.S.C. 12101 et seq.; 29 CFR 1630, Title VII of the Civil Rights Act of 1964, as amended, 29 U.S.C. Part 1605; U.S. Equal Employment Opportunity Commission's Compliance Manual, Section 12: Religious Discrimination (January 15, 2021); U.S. Equal Employment Opportunity Commission's Questions and Answers: Religious Discrimination in the Workplace (July 22, 2008); The Pregnant Workers Fairness Act (PWFA), Pub. L. 117-328, 136 Stat. 4459 (2022).

PURPOSES OF THE SYSTEM:

This system provides a method by which the FCC can identify Commission employees who have requested accommodations related to: religion; disability; or pregnancy, childbirth, or related medical conditions. Information on the disposition of each request is also maintained in this system.

CATEGORIES OF INDIVIDUALS COVERED BY THE SYSTEM:

The categories of records in this system are FCC employees (including, but not limited to full-time and part-time Commission employees, temporary hires, interns, and co-op students.) who have requested accommodations.

CATEGORIES OF RECORDS IN THE SYSTEM:

The categories of records in this system include but are not limited to the information that FCC employees (including, but not limited to full time, part time, temporary hires, interns, and co-op students) provide when requesting accommodation, including through submission of FCC Forms 5626, 5627, and 5652. These categories of records include: applicant/employee's name, phone number, email address; employee's office, supervisor's name and phone number; date of request; types of accommodation(s) requested; reason(s) for request; specific information, supporting documentation, and related materials regarding medical condition, including but not limited to the characteristics of impairment, job function difficulties, current limitation(s), past accommodation(s), specific accommodation(s), permanent or temporary condition(s); specific information, supporting documentation, and related materials regarding pregnancy, childbirth, or related conditions; specific information, supporting documentation, and related materials regarding requests for religious accommodations; signatures of applicant and receiving official; FCC-ACC Number (reasonable accommodations number); and disposition of request.

RECORD SOURCE CATEGORIES:

The sources for the information in this system include, but are not limited to FCC employees and applicants (including, but not limited to full-time and part-time Commission employees, temporary hires, interns, and co-op students), who have requested accommodations.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Litigation—To disclose records to the Department of Justice (DOJ) when: (a) the FCC or any component thereof; (b) any employee of the FCC in their official capacity; (c) any employee of the FCC in their individual capacity where the DOJ or the FCC has agreed to represent the employee; or (d) the United States Government is a party to litigation or has an interest in such litigation, and by careful review, the FCC determines that the records are both relevant and necessary to the litigation.

2. Adjudication—To disclose records in a proceeding before a court or adjudicative body, when: (a) the FCC or any component thereof; or (b) any employee of the FCC in their official capacity; or (c) any employee of the FCC in their individual capacity; or (d) the United States Government, is a party to litigation or has an interest in such litigation, and by careful review, the FCC determines that the records are both relevant and necessary to the litigation.

3. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal, State, local, Tribal, international, or multinational agencies, or a component of such an agency, responsible for investigating, prosecuting, enforcing, or implementing a statute, rule, regulation, or order.

4. Congressional Inquiries—To provide information to a Congressional office from the record of an individual in response to an inquiry from the Congressional office made at the written request of that individual.

5. Government-wide Program Management and Oversight—To disclose information to the Department of Justice (DOJ) to obtain that department's advice regarding disclosure obligations under the Freedom of Information Act (FOIA); or to the Office of Management and Budget (OMB)to obtain that office's advice regarding obligations under the Privacy Act.

6. Labor Relations—To officials of labor organizations recognized under 5 U.S.C. Chapter 71 upon receipt of a formal request and in accord with the conditions of 5 U.S.C. 7114 when relevant and necessary to their duties of exclusive representation concerning personnel policies, practices, and matters affecting working conditions.

7. Breach Notification—To appropriate agencies, entities, and persons when (a) the Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

8. Assistance to Federal Agencies and Entities Related to Breaches—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

9. Non-Federal Personnel—To disclose information to non-Federal personnel, including contractors, other vendors (e.g., identity verification services), grantees, and volunteers who have been engaged to assist the FCC in the performance of a contract, service, grant, cooperative agreement, or other activity related to this system of records and who need to have access to the records in order to perform their activity.

POLICES AND PRACTICES FOR STORAGE OF RECORDS:

This an electronic system of records that resides on the FCC's network. Paper documents and files including paper copies of form email correspondence, notes, and other related records are stored in file cabinets in the OWD office suite.

POLICIES AND PRACTICES FOR RETRIEVAL OF RECORDS:

Information in this system's paper document files and records is retrieved by searching by the individual's last name or the (corresponding) ACC number. Information in the electronic records and files is retrieved by the individual's last name, ACC number, office/workstation address, bureau/office, and accommodations request date.

POLICIES AND PRACTICES FOR RETENTION AND DISPOSAL OF RECORDS:

OWD staff maintains the information in this system in accordance with the National Archives and Records Administration (NARA) General Records Schedule 2.3, Employee Relations Records (DAA-GRS-2018-0002), specifically: DAA-GRS-2022-0001 (Religious Accommodations Revision); DAA-GRS-2018-0002-0001 (Employee Relations Programs' Administrative Records); and DAA-GRS-2018-0002-0002 (Reasonable Accommodation Case Files).

ADMINISTRATIVE, TECHNICAL, AND PHYSICAL SAFEGUARDS:

The electronic records, files, and data are stored within FCC or a vendor's accreditation boundaries and maintained in a database housed in the FCC's or vendor's computer network databases. Access to the electronic and paper files is restricted to authorized employees and contractors; and in the case of electronic files to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST). The paper documents, files, and related materials are stored in approved security containers, which are locked when not in use and/or at the end of the business day. These paper documents are stored in locked file cabinets in the OWD office suite, when not in use and/or at the end of day. These paper documents are destroyed by shredding when no longer needed.

RECORD ACCESS PROCEDURES:

Individuals wishing to request access to and/or amendment of records about themselves should follow the Notification Procedures below.

CONTESTING RECORD PROCEDURES:

Individuals wishing to contest information pertaining to him or her in the system of records should follow the Notification Procedures below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None.

HISTORY:

84 FR 3163 (Feb. 11, 2019)

Federal Communications Commission.

Marlene Dortch,
Secretary.

[FR Doc. 2024-01515 Filed 1-25-24; 8:45 am]

BILLING CODE 6712-01-P